DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 14, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on November 02, 2020.
Donald P. Burger,
Chief, General Approvals and Permits Branch.

Special Permits Data
Application No. | Applicant | Regulation(s) affected | Nature of the special permits thereof
21125-N | CTS Cylinder Sales LLC | 180.209(a), 180.209(b)(1) | To authorize the transportation in commerce of certain hazardous materials in DOT Specification 3AL cylinders manufactured from aluminum allow 6061-T6 that are requalified every ten years rather than every five years using 100% ultrasound examination. (modes 1, 2).
21127-N | Sodastream USA Inc. | 178.35(b)(1), 178.70(e) | To authorize the manufacture of cylinders by a foreign entity without requiring Independent Inspection Agency inspection and analysis. (modes 1, 2, 3).
21129-N | Alliant Techsystems Operations LLC | 173.301, 173.302, 178.56(c), 178.56(g), 178.56(i), 178.56(j), 178.56(k), 178.56(m) | To authorize the transportation in commerce of non-DOT specification pressure vessels which incorporate a class 1 component. (mode 1).
21133-N | Securaplane Technologies, Inc. | 172.102(b)(2) | To authorize the transportation in commerce of lithium ion batteries by cargo-only aircraft at a state of charge exceeding 30%. (mode 4).
21134-N | GATX Corporation | 179.100-4, 179.200-4 | To authorize the use of certain jacketed DOT specification tank cars that have been repaired pursuant to Applicant's Jacket Patch Procedure. (mode 2).
21135-N | JohnDow Industries, Inc. | 178.503(a) | To authorize the marking of specification packagings that were mismarked with an incorrect specification. (mode 1).
21136-N | Cimarron Composites, LLC | 173.302(a)(1) | To authorize the manufacture, mark, sale, and use fiber reinforced composite cylinders with non-load sharing plastic liners in compliance with UN/ISO11515: 2013, Type 4. (modes 1, 2, 3).
21137-N | DGM Italia Srl | 172.101(j) | To authorize the transportation in commerce of lithium ion batteries exceeding 35 kg by cargo-only aircraft. (mode 4).

[FR Doc. 2020-24991 Filed 11-10-20; 8:45 am]

BILLING CODE P